DEPARTMENT OF THE INTERIOR

Fish and Wildlife Service

Notice of Availability of an Agency Draft Recovery Plan for Five Freshwater Mussels—Cumberland Elktoe (Alasmidonta atropurpurea), Oyster Mussel (Epioblasma capsaeformis), Cumberlandian Combshell (Epioblasma brevidens), Purple Bean (Villosa perpurpurea), and Rough Rabbitsfoot (Quadrula cylindrica strigillata)—for Review and Comment

AGENCY: Fish and Wildlife Service, Interior.

ACTION: Notice of document availability and public comment period.

SUMMARY: We, the Fish and Wildlife Service, announce the availability of the agency draft recovery plan for five freshwater mussels—Cumberland elktoe (Alasmidonta atropurpurea), oyster mussel (Epioblasma capsaeformis), Cumberlandian combshell (Epioblasma brevidens), purple bean (Villosa perpurpurea), and rough rabbitsfoot (Quadrula cylindrica strigillata). These species are endemic to the Cumberland and Tennessee River systems in Alabama, Kentucky, Mississippi, Tennessee, and Virginia. Recent research has greatly increased our understanding of the ecology of these species. The agency draft recovery plan includes specific recovery objectives and criteria to be met in order to downlist these mussels to threatened status or delist them under the Endangered Species Act of 1973, as amended (Act). We solicit review and comment on this agency draft recovery plan from local, State, and Federal agencies, and the public.

DATES: In order to be considered, we must receive comments on the draft recovery plan on or before June 23, 2003.

ADDRESSES: If you wish to review this agency draft recovery plan, you may obtain a copy by contacting the Asheville Field Office, U.S. Fish and Wildlife Service, 160 Zillicoa Street, Asheville, North Carolina 28801 (Telephone 828/258-3939), or by visiting our recovery plan Web site at http://endangered.fws.gov/recovery/index.html #plans. If you wish to comment, you may submit your comments by any one of several methods:

1. You may submit written comments and materials to the State Supervisor, at the above address.

2. You may hand-deliver written comments to our Asheville Field Office, at the above address, or fax your comments to (828)258-5330.

3. You may send comments by e-mail to bob_butler@fws.gov. For directions on how to submit electronic filing of comments, see the “Public Comments Solicited” section.

Comments and materials received are available on request for public inspection, by appointment, during normal business hours at the above address.

FOR FURTHER INFORMATION CONTACT: Bob Butler at the above address (Telephone 828/258-3939, Ext. 235).

SUPPLEMENTARY INFORMATION:

Background

We listed these five mussels as endangered species under the Act, on January 10, 1997. The five freshwater mussels are restricted to either the Cumberland River system (Cumberland elktoe), the Tennessee River system (purple bean and rough rabbitsfoot), or both of these river systems (oyster mussel and Cumberlandian combshell). They once existed in hundreds of stream miles and now survive in only a few relatively small, isolated populations in Alabama, Kentucky, Mississippi, Tennessee, and Virginia. Currently they are found in the Clinch River (Tennessee and Virginia), Duck River (Tennessee), Nolichucky River (Tennessee), Powell River (Tennessee and Virginia), Bear Creek (Alabama and Mississippi), Beech Creek (Tennessee), Buck Creek (Kentucky), Copper Creek (Virginia), Indian Creek (Virginia), Marsh Creek (Kentucky), Sinking Creek (Kentucky), Laurel Fork (Kentucky), Big South Fork (Kentucky and Tennessee), and several tributaries in the Big South Fork drainage (Rock Creek, in Kentucky; and the New River, Clear Fork, North Prong Clear Fork, Bone Camp Creek, Crooked Creek, North White Oak Creek, and White Oak Creek, all in Tennessee).

Habitat alteration continues to be the major threat to the continued existence of these species. This includes the negative effects of impoundments, channelization, mining, pollutants, sedimentation, and construction activities. Alien species (e.g., the zebra mussel, Dreissena polymorpha) and genetic factors associated with increasingly small and isolated populations are also factors contributing to the continued imperilment of these five mussels.

Restoring an endangered or threatened animal or plant to the point where it is again a secure, self-sustaining member of its ecosystem is a primary goal of the endangered species program. To help guide the recovery effort, we are preparing recovery plans for most listed species native to the United States. Recovery plans describe actions considered necessary for conservation of the species, establish criteria for downlisting or delisting, and estimate time and cost for implementing recovery measures.

The Endangered Species Act of 1973, as amended (16 U.S.C. et seq.) (Act), requires the development of recovery plans for listed species unless such a plan would not promote the conservation of a particular species. Section 4(f) of the Act, as amended in 1988, requires us to provide a public notice and an opportunity for public review and comment be provided during recovery plan development. We will consider all information presented during a public comment period prior to approval of each new or revised recovery plan. We and other Federal agencies will take these comments into account in the course of implementing approved recovery plans.

We developed a technical draft of this recovery plan and released it for review by the professional community in 1998. We incorporated received comments where appropriate into this subsequent agency draft recovery plan, which we are now making available for review by all interested agencies and parties, including the general public.

The objective of this draft plan is to provide a framework for the recovery of these five species so that protection under the Act is no longer necessary. As recovery criteria are met, the status of the species will be reviewed and they will be considered for removal from the Federal List of Endangered and Threatened Wildlife and Plants (50 CFR part 17).

Public Comments Solicited

We solicit written comments on the recovery plan described. We will consider all comments received by the date specified above prior to final approval of the plan.

Please submit electronic comments as an ASCII file format and avoid the use of special characters and encryption. Please also include your name and return address in your e-mail message. If you do not receive a confirmation from the system that we have received your e-mail message, contact us directly by calling our Asheville Field Office (see ADDRESSES section).

Our practice is to make all comments, including names and home addresses of respondents, available for public review during regular business hours. Individual respondents may request that we withhold their home address from the rulemaking record, which we will honor to the extent allowable by law. In some circumstances, we would withhold also from the rulemaking record a respondent's identity, as allowable by law. If you wish for us to withhold your name and/or address, you must state this prominently at the beginning of your comments. However, we will not consider anonymous comments. We will make all submissions from organizations or businesses, and from individuals identifying themselves as representatives or officials of organizations or businesses, available for public inspection in their entirety.

Authority

The authority for this action is section 4(f) of the Endangered Species Act, 16 U.S.C. 1533 (f).

Dated: April 4, 2003.
J. Mitch King,
Deputy Regional Director, Southeast Region, Fish and Wildlife Service.

[FR Doc. 03-9859 Filed 4-21-03; 8:45 am]

BILLING CODE 4310-55-P